DEPARTMENT OF ENERGY

Federal Energy Regulatory Commission

[Docket No. AD03-13-000]

Application of the Primary Function Test for Gathering on the Outer Continental Shelf; Notice for Extension of Time to File Comments

August 27, 2003.

On August 14, 2003, a notice was issued stating that on September 23, 2003, the Commission would convene a public conference to explore criteria for distinguishing gathering facilities from transmission facilities in shallow waters of the Outer Continental Shelf. The notice requested that comments in response to the notice be submitted to the Commission by September 3, 2003. On August 22, 2003, the Williams Companies, Inc. (Williams), submitted a request—supported by the Interstate Natural Gas Association of America, the Natural Gas Supply Association, Duke Energy Field Services, the KeySpan Delivery Companies, and BP Energy Company—for an extension of time to file comments in response to the notice of the conference.

Williams requests additional time because the period to prepare comments coincides with holidays. In view of the support favoring Williams' request, the time to submit comments will be extended by a week, from September 3 to September 10, 2003.

Although the date for comments is changed, the date for notifying the Commission of an intention to participate in the conference remains the same. Therefore, persons interested in speaking or making a presentation at the conference must indicate their interest no later than September 3, 2003; comments addressing the questions specified in the August 14 notice must be filed by September 10, 2003. There is no need to provide advance notice to the Commission simply to attend the conference.

A subsequent notice will provide further details on the conference, including the agenda and a list of participants, as plans evolve. For additional information, please contact Gordon Wagner, Office of General Counsel, phone 202-502-8947, e-mail: gordon.wagner@ferc.gov.

Magalie R. Salas,
Secretary.

[FR Doc. 03-22720 Filed 9-5-03; 8:45 am]

BILLING CODE 6717-01-P